DEPARTMENT OF HOMELAND SECURITY

Coast Guard

33 CFR Part 117

[CGD05-07-107]

Drawbridge Operation Regulations; Tar River, Washington, NC

AGENCY: Coast Guard, DHS.

ACTION: Notice of temporary deviation from regulations.

SUMMARY: The Commander, Fifth Coast Guard District, has issued a temporary deviation from the regulation governing the operation of the US17-264 Bridge, at mile 37.2, across Tar River at Washington, NC. This deviation allows the drawbridge to remain closed to navigation to facilitate sandblasting and painting operations.

DATES: This deviation is effective from 7 a.m. on November 15, 2007 to 7 a.m. on May 15, 2008.

ADDRESSES: Materials referred to in this document are available for inspection or copying at Commander (dpb), Fifth Coast Guard District, Federal Building, 1st Floor, 431 Crawford Street, Portsmouth, VA 23704-5004 between 8 a.m. and 4 p.m., Monday through Friday, except Federal holidays. The telephone number is (757) 398-6222. Commander (dpb), Fifth Coast Guard District maintains the public docket for this temporary deviation.

FOR FURTHER INFORMATION CONTACT: Bill H. Brazier, Bridge Management Specialist, Fifth Coast Guard District, at (757) 398-6422.

SUPPLEMENTARY INFORMATION: The US17-264 Bridge, a swing-type bridge, has a vertical clearance in the closed position to vessels of six feet, above mean high water.

The contractor, on behalf of the North Carolina Department of Transportation (the bridge owner), has requested a temporary deviation from the current operating regulations set out in 33 CFR 117.831 to close the swing bridge to navigation to facilitate sandblasting, cleaning and painting of the bridge.

To facilitate this operation, the US17-264 Bridge will be maintained in the closed-to-navigation position beginning at 7 a.m. on November 15, 2007, until and including 7 a.m. on May 15, 2008. In addition, the work requires installation of a platform the full length of the swing span portion of bridge reducing the available vertical clearance by approximately two feet.

In accordance with 33 CFR 117.35(e), the drawbridge must return to its regular operating schedule immediately at the end of the designated time period. This deviation from the operating regulations is authorized under 33 CFR 117.35.

We have analyzed this temporary deviation under Commandant Instruction M16475.lD and Department of Homeland Security Management Directive 5100.1, which guide the Coast Guard in complying with the National Environmental Policy Act of 1969 (NEPA) (42 U.S.C. 4321-4370f). The environmental impact that this temporary deviation will have is minimal because of the drawbridge being closed to vessels to perform routine repair and maintenance will not result in a change in functional use, or an impact on a historically significant element or setting.

Dated: October 25, 2007.
Waverly W. Gregory, Jr.,
Chief, Bridge Administration Branch, Fifth Coast Guard District.

[FR Doc. E7-21883 Filed 11-7-07; 8:45 am]

BILLING CODE 4910-15-P